DEPARTMENT OF JUSTICE

Notice of Lodging of Proposed Consent Decree under the Clean Air Act

On July 11, 2013, the Department of Justice lodged a proposed Consent Decree with the United States District Court for the District of Maryland in the lawsuit entitled United States v. Holcim (US) Inc. and St. Lawrence Cement Company, LLC, Civil Action No. 1:11-cv-01119-CCB.

The United States filed this lawsuit under the Clean Air Act (“Act”). The United States' complaint seeks injunctive relief and civil penalties for violations of: (a) the Prevention of Significant Deterioration (“PSD”) provisions of the Act, 42 U.S.C. 7470-92, and Maryland's PSD program in the federally enforceable Maryland State Implementation Plan (“Maryland SIP”), Code of Maryland Regulations (“COMAR”), Title 26, Subtitle 11, Chapter 06.14, entitled “Control of PSD Sources,” and (b) Title V of the Act, 42 U.S.C. 7661-7661f, and Title V's implementing federal regulations, 40 CFR part 70, and Maryland's federally enforceable Title V program, COMAR 26.11.03, entitled “Permits, Approvals, and Registration—Title V Permits”, at Holcim's portland cement plant in Hagerstown, Maryland. The Consent Decree requires the defendant to perform injunctive relief, pay a $700,000 civil penalty, and perform an environmental mitigation project.

The publication of this notice opens a period for public comment on the Consent Decree. Comments should be addressed to the Assistant Attorney General, Environment and Natural Resources Division, and should refer to United States v. Holcim (US) Inc. and St. Lawrence Cement Company, LLC, D.J. Ref. No. 90-5-2-1-09594. All comments must be submitted no later than thirty (30) days after the publication date of this notice. Comments may be submitted either by email or by mail:

To submit comments: | Send them to:
By email | pubcomment-ees.enrd@usdoj.gov.
By mail | Assistant Attorney General U.S. DOJ—ENRD P.O. Box 7611 Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $12.25 (25 cents per page reproduction cost) payable to the United States Treasury.

Robert D. Brook,
Assistant Section Chief, Environmental Enforcement Section, Environment and Natural Resources Division.

[FR Doc. 2013-16995 Filed 7-15-13; 8:45 am]

BILLING CODE 4410-15-P